DEPARTMENT OF THE INTERIOR

Bureau of Land Management

[LLWY922000-L13200000-EL0000, WYW179006]

Notice of Invitation To Participate; Coal Exploration License Application WYW179006, Wyoming

AGENCY: Bureau of Land Management, Interior.

ACTION: Notice of Invitation To Participate in Coal Exploration License.

SUMMARY: Pursuant to the Mineral Leasing Act of 1920, as amended by the Federal Coal Leasing Amendments Act of 1976, and to Bureau of Land Management (BLM) regulations, all interested parties are hereby invited to participate with Black Butte Coal Company, on a pro rata cost-sharing basis, in its program for the exploration of coal deposits owned by the United States of America in Sweetwater County, Wyoming.

DATES: This notice of invitation was published in the Rock Springs Daily Rocket-Miner once each week for 2 consecutive weeks beginning the week of May 19, 2010, and in the Federal Register. Any party electing to participate in this exploration program must send written notice to both the BLM and Black Butte Coal Company, as provided in the ADDRESSES section below, no later than 30 days after publication of this invitation in the Federal Register.

ADDRESSES: Copies of the exploration plan are available for review during normal business hours in the following offices (serialized under number WYW179006): Bureau of Land Management, Wyoming State Office, 5353 Yellowstone Road, P.O. Box 1828, Cheyenne, Wyoming 82003; and, Bureau of Land Management, Rock Springs Field Office, 280 Highway 191 North, Rock Springs, Wyoming 82901. The written notice should be sent to the following addresses: Black Butte Coal Company, Attn: Chad Petrie, P.O. Box 98, Point of Rocks, Wyoming 82942, and the Bureau of Land Management, Wyoming State Office, Branch of Solid Minerals, Attn: Joyce Gulliver, P.O. Box 1828, Cheyenne, Wyoming 82003.

FOR FURTHER INFORMATION CONTACT: Joyce Gulliver, Land Law Examiner, at 307-775-6208.

SUPPLEMENTARY INFORMATION: Black Butte Coal Company has applied to the BLM for a coal exploration license on public land adjacent to their coal mine. The purpose of the exploration program is to obtain structural and quality information of the coal. The BLM regulations at 43 CFR 3410 require the publication of an invitation to participate in the coal exploration in the Federal Register. The Federal coal resources included in the exploration license application are located in the following-described lands:

T. 19 N., R. 100 W., 6th P.M., Wyoming

Sec. 12: All.

Containing 640 acres, more or less.

The proposed exploration program is fully described and will be conducted pursuant to an exploration plan to be approved by the BLM. (Authority: 43 CFR 3410.2-1(c)(1))

Donald A. Simpson,
State Director.

[FR Doc. 2010-13837 Filed 6-8-10; 8:45 am]

BILLING CODE 4310-22-P